DEPARTMENT OF AGRICULTURE

Submission for OMB Review; Comment Request

September 22, 2017.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by October 30, 2017 will be considered. Written comments should be addressed to: Desk Officer for Agriculture, Office of Information and Regulatory Affairs, Office of Management and Budget (OMB), OIRA_Submission@omb.eop.gov or fax (202) 395-5806 and to Departmental Clearance Office, USDA, OCIO, Mail stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Study of Non-Response to the School Meals Application Verification Process.

OMB Control Number: 0584-New.

Summary of Collection: The National School Lunch Program (NSLP) and the School Breakfast Program (SBP) provide subsidized lunches and breakfasts to millions of students each school day. Students are certified eligible to receive free or reduced-price (F/RP) meals through application or direct certification. When eligibility is determined using an application process, school districts must annually verify eligibility of children from a sample of household applications for that school year, unless the State agency assumes responsibility for verification. This study will examine the accuracy of district verification procedures.

Need and Use of the Information: Collecting this data will help FNS to understand the approaches districts take to verification, understand the accuracy of the verification process and the results it produces in the context of potential changes, and help to identify potential improvements to the verification process.

Description of Respondents: State, Local, or Tribal Government; Individuals or Households.

Number of Respondents: 2,144.

Frequency of Responses: Reporting: Annually.

Total Burden Hours: 5,535.

Ruth Brown,
Departmental Information Collection Clearance Officer.

[FR Doc. 2017-20762 Filed 9-27-17; 8:45 am]

BILLING CODE 3410-30-P